DEPARTMENT OF HEALTH AND HUMAN SERVICES

Administration for Children and Families

Submission for OMB Review; Comment Request

Title: Subsidized and Transitional Employment Demonstration and Evaluation Project (STEDEP).

OMB No.: New collection.

Billing Accounting Code (BAC): 418409 (CAN G996121).

Description: The Administration for Children and Families (ACF) is proposing an information collection activity as part of the Subsidized and Transitional Employment Demonstration and Evaluation Project. The proposed information collection consists of semi-structured interviews with key respondents involved with subsidized and transitional employment programs. Through this information collection and other study activities, ACF seeks to identify the types of strategies that should be tested within the context of current TANF policies and requirements as well as recent efforts under the American Recovery and Reinvestment Act (ARRA).

Respondents: Experts and stakeholders such as researchers, policy experts, coordinators (e.g. state-level coordinators), subsidized and transitional employment program directors and staffs.

Annual Burden Estimates
Instrument | Number of respondents | Number of responses per respondent | Average burden hours per response | Total burden hours
Discussion Guide for Use with Researchers, Policy Experts, and State-level Coordinators | 50 | 1 | 1 | 50
Discussion Guide for Use with Program Directors | 25 | 1 | 2.5 | 63
Discussion Guide for Use with Program Staff | 50 | 1 | 2 | 100
Estimated Total Annual Burden Hours |  |  |  | 213

Additional Information

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974,Attn: Desk Officer for the Administration for Children and Families.

Dated: September 1, 2010.
Steven M. Hammer,
OPRE Reports Clearance Officer.

[FR Doc. 2010-22317 Filed 9-8-10; 8:45 am]

BILLING CODE 4184-01-M